DEPARTMENT OF LABOR

Office of the Secretary of Labor

Notice of Intent To Issue Declaratory Order

AGENCY: Office of the Secretary of Labor, Department of Labor.

ACTION: Notice of intent to issue declaratory order; request for comment; extension of comment period.

SUMMARY: On December 17, 2014, the Office of the Secretary of Labor published a Federal Register notice of intent to issue declaratory order and request for comment (“Notice”). This Notice (79 FR 75179) states the Secretary of Labor (“Secretary”) is considering issuing on his own motion a declaratory order confirming that he has exclusive authority to make legal and policy determinations based on his statutory and regulatory authority to administer and enforce the H-2B temporary labor certification program. Such a declaratory order would remove uncertainty about that authority created by a decision of the Board of Alien Labor Certification Appeals in Island Holdings LLC, 2013-PWD-00002 (BALCA Dec. 3, 2013) (en banc). This Notice was issued pursuant to the authority granted in the Administrative Procedure Act (APA), 5 U.S.C. 554(e), to issue declaratory orders “to terminate a controversy or remove uncertainty.” This document extends the comment period for the Notice for fifteen (15) days. If you have already submitted comments in response to the Notice, you do not need to resubmit your comment. The Department will consider all comments received from the date of publication of the Notice through the close of the extended comment period.

DATES: The comment period for the Notice published on December 17, 2014 (79 FR 75179), scheduled to close on January 16, 2015, is extended until February 2, 2015.

ADDRESSES: You may submit comments, identified by docket number ETA-2014-0003, by any one of the following methods:

• Federal e-Rulemaking Portal www.regulations.gov. Follow the Web site instructions for submitting comments.

• Mail or Hand Delivery/Courier: Please submit all written comments (including disk and CD-ROM submissions) to Adele Gagliardi, Administrator, Office of Policy Development and Research, Employment and Training Administration, U.S. Department of Labor, 200 Constitution Avenue NW., Room N-5641, Washington, DC 20210.

Please submit your comments by only one method. Comments received by means other than those listed above or received after the comment period has closed will not be reviewed. The Department will post all comments received on http://www.regulations.gov without making any change to the comments, including any personal information provided. The http://www.regulations.gov Web site is the Federal e-rulemaking portal and all comments posted there are available and accessible to the public. The Department cautions commenters not to include personal information such as Social Security Numbers, personal addresses, telephone numbers, and email addresses in their comments as such information will become viewable by the public on the http://www.regulations.gov Web site. It is the commenter's responsibility to safeguard his or her information. Comments submitted through http://www.regulations.gov will not include the commenter's email address unless the commenter chooses to include that information as part of his or her comment.

Postal delivery in Washington, DC, may be delayed due to security concerns. Therefore, the Departments encourage the public to submit comments through the http://www.regulations.gov Web site.

Docket: For access to the docket to read background documents or comments received, go to the Federal eRulemaking portal at http://www.regulations.gov. The Department will also make all the comments available for public inspection during normal business hours at the Employment and Training Administration (ETA) Office of Policy Development and Research at the above address. If you need assistance to review the comments, DOL will provide you with appropriate aids such as readers or print magnifiers. DOL will make copies of the Notice available, upon request, in large print and as an electronic file on computer disk. DOL will consider providing the Notice in other formats upon request. To schedule an appointment to review the comments and/or obtain the Notice in an alternate format, contact the ETA Office of Policy Development and Research at (202) 693-3700 (VOICE) (this is not a toll-free number) or 1-877-889-5627 (TTY/TDD).

FOR FURTHER INFORMATION CONTACT: For further information, contact William W. Thompson, Acting Administrator, Office of Foreign Labor Certification, ETA, U.S. Department of Labor, 200 Constitution Avenue NW., Room C-4312, Washington, DC 20210; Telephone (202) 693-3010 (this is not a toll-free number). Individuals with hearing or speech impairments may access the telephone number above via TTY by calling the toll-free Federal Information Relay Service at 1-800-877-8339.

SUPPLEMENTARY INFORMATION: On December 17, 2014, the Department published a Notice of Intent to Issue Declaratory Order and Request for Comment (79 FR 75179). The Department was to receive comments on this Notice on or before January 16, 2015.

Several organizations and an individual submitted requests to extend the comment period by an additional 90 days. We considered these requests and determined that it is appropriate to provide an additional 15-day period for comment on the Notice. We are, therefore, extending the comment period until Monday, February 2, 2015.

Extension of Comment Period

The Department determined that the public could use additional time to review the administrative record for this adjudicatory proceeding and to prepare comment in the nature of legal briefing related to the proposed legal determinations stated in the Notice. Therefore, to allow the public sufficient time to review and comment on the Notice, the Department is extending the comment period until February 2, 2015.

Signed at Washington, DC, this 12th day of January, 2015.
Thomas E. Perez,
Secretary of Labor.

[FR Doc. 2015-00580 Filed 1-15-15; 8:45 am]

BILLING CODE P